ENVIRONMENTAL PROTECTION AGENCY

[EPA-HQ-OPPT-2015-0176; FRL-9924-61]

Certain New Chemicals; Receipt and Status Information

AGENCY: Environmental Protection Agency.

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from January 2, 2015 to January 30, 2015.

DATES: Comments identified by the specific PMN number or TME number, must be received on or before April 20, 2015.

ADDRESSES: Submit your comments, identified by docket identification (ID) number EPA-HQ-OPPT-2015-0176 and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, Information Management Division (7407M), Office of Pollution Prevention and Toxics, Environmental Protection Agency, 1200 Pennsylvania Ave. NW., Washington, DC 20460-0001; telephone number: (202) 564-8593; email address: Rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the agency taking?

This document provides receipt and status reports, which cover the period from January 2, 2015 to January 30, 2015, and consists of the PMNs and TMEs both pending and/or expired, and the NOCs to manufacture a new chemical that the Agency has received under TSCA section 5 during this time period.

III. What is the agency's authority for taking this action?

Section 5 of TSCA requires that EPA periodical publish in the Federal Register receipt and status reports, which cover the following EPA activities required by provisions of TSCA section 5.

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic status reports on the new chemicals under review and the receipt of NOCs to manufacture those chemicals.

IV. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—83 PMNs Received From 01/02/2015 to 01/30/2015
Case No. | Received date | Projected notice end date | Manufacturer importer | Use | Chemical
P-15-0171 | 1/2/2015 | 4/2/2015 | CBI | (G) Potable water-treatment media | (G) Nitrogen-functional activated carbon.
P-15-0174 | 1/6/2015 | 4/6/2015 | CBI | (G) Destructive use | (G) Carbamic acid, hydroxyalkyl ester.
P-15-0175 | 1/6/2015 | 4/6/2015 | CBI | (G) Open, non-dispersive | (G) Blocked polyisocyanate.
P-15-0176 | 1/9/2015 | 4/9/2015 | Henkel Corporation | (S) Chemical intermediate to cureable monomer | (S) 6-Mercapto-1-Hexanol.
P-15-0177 | 1/8/2015 | 4/8/2015 | CBI | (G) Catalyst used in the process to manufacture a crop protection chemical | (G) Phenol, 2,2′-[1,2-disubstituted-1,2-ethanediyl]bis(iminomethylene) bis[substituted-.
P-15-0178 | 1/8/2015 | 4/8/2015 | H.B.Fuller Company | (G) Industrial Adhesive | (G) Long chain aliphatic acid polymers, with adipic acid, di-meterephthalate, alkane acid, aromatic isocyanate and neopentyl glycol.
P-15-0179 | 1/8/2015 | 4/8/2015 | H.B.Fuller Company | Industrial Adhesive | (G) Long chain aliphatic acid polymers, with adipic acid, di-meterephthalate, alkane acid, aromatic isocyanate and neopentyl glycol.
P-15-0180 | 1/7/2015 | 4/7/2015 | Munzing | (G) Dispersant/wetting agent | (G) Substituted epoxide, polymer with epoxide, substituted alkyl methyl ether, polymer with cyclic anhydride polymer with ethenylbenzene, imidazole alkylamine and hydroxide.
P-15-0181 | 1/7/2015 | 4/7/2015 | Munzing | (G) Dispersant/wetting agent | (G) Cyclic anhydride polymer with ethenylbenzene, ester with -methyl—Hydroxypoly(oxy-1,2-ethanediyl), imide with substituted epoxide, polymer with epoxide, substituted alkyl methyl ether, compound with imidazole alkylamine.
P-15-0182 | 1/7/2015 | 4/7/2015 | Munzing | (G) Dispersant/wetting agent | (G) Cyclic anhydride polymer with ethenylbenzene, imide, imide with substituted epoxide, polymer with epoxide, substituted alkyl methyl ether, reaction products with imidazole alkylamine and substituted alkyldiamine.
P-15-0183 | 1/7/2015 | 4/7/2015 | Munzing | (G) Dispersant/wetting agent | (G) 2,5-Furandione, polymer with ethylbenzene, ester with polyethoxylated alkanol, compound with substituted aminoalkohol.
P-15-0184 | 1/8/2015 | 4/8/2015 | CBI | (G) Oil production | (G) Alkylaminopropanamide, N-[dialkyl amino-propyl], salt.
P-15-0185 | 1/8/2015 | 4/8/2015 | CBI | (G) Oil production | (G) Alkylaminopropanamide, N-[dialkyl amino-propyl], salt.
P-15-0186 | 1/8/2015 | 4/8/2015 | CBI | (G) Oil production | (G) Alkylaminopropanamide, N-[dialkyl amino-propyl], salt.
P-15-0187 | 1/8/2015 | 4/8/2015 | CBI | (G) Oil production | (G) Alkylaminopropanamide, N-[dialkyl amino-propyl], salt.
P-15-0188 | 1/16/2015 | 4/16/2015 | Allnex USA Inc. | (S) Pigment wetting; flexible ultra violet (uv)-curable resin | (G) Carbomoncycles, polymer with substituted heteromonocycle, 2-(2-alkyl-1-oxo-2-alkenyl) oxy] alkyl hydrogen alkanedioate.
P-15-0189 | 1/19/2015 | 4/19/2015 | CBI | (G) Antistatic agent | (G) Alkane carboxylic acid ester with alkanepolyol.
P-15-0190 | 1/19/2015 | 4/19/2015 | Industrial Speciality Chemicals | (G) Cationization of starch | (G) Halogenated alkylaminium.
P-15-0192 | 1/20/2015 | 4/20/2015 | CBI | (S) Pigment for automotive coatings to be used in automotive OEM and refinish | (G) Substituted alkylsilanes, reaction products with a mixture of metal oxides.
P-15-0193 | 1/20/2015 | 4/20/2015 | CBI | (S) Pigment for automotive coatings to be used in automotive OEM and refinish | (G) Substituted alkylsilanes, reaction products with a mixture of metal oxides.
P-15-0194 | 1/20/2015 | 4/20/2015 | CBI | (S) Pigment for automotive coatings to be used in automotive OEM and refinish | (G) Substituted alkylsilanes, reaction products with a mixture of metal oxides.
P-15-0195 | 1/20/2015 | 4/20/2015 | CBI | (S) Pigment for automotive coatings to be used in automotive OEM and refinish | (G) Substituted alkylsilanes, reaction products with a mixture of metal oxides.
P-15-0196 | 1/20/2015 | 4/20/2015 | CBI | (S) Pigment for automotive coatings to be used in automotive OEM and refinish | (G) Substituted alkylsilanes, reaction products with a mixture of metal oxides.
P-15-0197 | 1/20/2015 | 4/20/2015 | CBI | (S) Pigment for automotive coatings to be used in automotive oem and refinish | (G) Substituted alkylsilanes, reaction products with a mixture of metal oxides.
P-15-0198 | 1/20/2015 | 4/20/2015 | CBI | (S) Pigment for automotive coatings to be used in automotive OEM and refinish | (G) Substituted alkylsilanes, reaction products with a mixture of metal oxides.
P-15-0199 | 1/21/2015 | 4/21/2015 | CBI | (G) Component for gas absorbtion media | (G) Metallic salt of dicarboxylic acid.
P-15-0200 | 1/21/2015 | 4/21/2015 | CBI | (S) Pigment for automotive coatings to be used in automotive OEM and refinish | (G) Substituted alkylsilanes, reaction products with a mixture of metal oxides.
P-15-0201 | 1/21/2015 | 4/21/2015 | CBI | (S) Pigment for automotive coatings to be used in automotive OEM and refinish | (G) Substituted alkylsilanes, reaction products with a mixture of metal oxides.
P-15-0203 | 1/21/2015 | 4/21/2015 | Firmenich Incorporated | (G) As part of a fragrance formula | (S) Phenol, 3-propyl-.
P-15-0204 | 1/21/2015 | 4/21/2015 | CBI | (S) Pigment for automotive coatings to be used in automotive OEM and refinish | (G) Substituted alkylsilane, reaction products with a mixture of metal oxides.
P-15-0205 | 1/21/2015 | 4/21/2015 | CBI | (S) Pigment for automotive coatings to be used in automotive OEM and refinish | (G) Substituted alkylsilanes, reaction products with a mixture of metal oxides.
P-15-0206 | 1/21/2015 | 4/21/2015 | CBI | (S) Pigment for automotive coatings to be used in automotive OEM and refinish | (G) Substituted alkylsilanes, reaction products with a mixture of metal oxides.
P-15-0207 | 1/21/2015 | 4/21/2015 | CBI | (S) Pigment for automotive coatings to be used in automotive OEM and refinish | (G) Substituted alkylsilanes, reaction products with a mixture of metal oxides.
P-15-0209 | 1/21/2015 | 4/21/2015 | CBI | (S) Pigment for automotive coatings to be used in automotive OEM and refinish | (G) Substituted alkylsilane, reaction products with a mixture of metal oxides.
P-15-0210 | 1/21/2015 | 4/21/2015 | CBI | (S) Pigment for automotive coatings to be used in automotive OEM and refinish | (G) Substituted alkylsilanes, reaction products with a mixture of metal oxides.
P-15-0211 | 1/21/2015 | 4/21/2015 | CBI | (S) Pigment for automotive coatings to be used in automotive OEM and refinish | (G) Substituted alkylsilanes, reaction products with a mixture of metal oxides.
P-15-0212 | 1/21/2015 | 4/21/2015 | CBI | (S) Pigment for automotive coatings to be used in automotive OEM and refinish | (G) Substituted alkylsilanes, reaction products with a mixture of metal oxides.
P-15-0213 | 1/21/2015 | 4/21/2015 | CBI | (S) Pigment for automotive coatings to be used in automotive OEM and refinish | (G) Substituted alkylsilanes, reaction products with a mixture of metal oxides.
P-15-0214 | 1/21/2015 | 4/21/2015 | CBI | (S) Pigment for automotive coatings to be used in automotive OEM and refinish | (G) Substituted alkylsilanes, reaction products with a mixture of metal oxides.
P-15-0215 | 1/21/2015 | 4/21/2015 | CBI | (S) Pigment for automotive coatings to be used in automotive OEM and refinish | (G) Substituted alkylsilanes, reaction products with a mixture of metal oxides.
P-15-0216 | 1/21/2015 | 4/21/2015 | CBI | (S) Pigment for automotive coatings to be used in automotive OEM and refinish | (G) Substituted alkylsilanes, reaction products with a mixture of metal oxides.
P-15-0217 | 1/21/2015 | 4/21/2015 | CBI | (S) Pigment for automotive coatings to be used in automotive OEM and refinish | (G) Substituted alkylsilanes, reaction products with a mixture of metal oxides.
P-15-0218 | 1/21/2015 | 4/21/2015 | CBI | (S) Pigment for automotive coatings to be used in automotive OEM and refinish | (G) Substituted alkylsilane, reaction products with a mixture of metal oxides.
P-15-0219 | 1/22/2015 | 4/22/2015 | CBI | (S) Pigment for automotive coatings to be used in automotive OEM and refinish | (G) Substituted alkylsilanes, reaction products with a mixture of metal oxides.
P-15-0220 | 1/22/2015 | 4/22/2015 | TSE Industries, Inc | (S) Formulation ingredient for coating industry | (S) N-[3-[[[3-ethoxy-1-(ethoxycarbonyl)-3-oxopropyl]amino]methyl]-3,5,5-trimethylcyclohexyl]-,1,4-diethyl ester.
P-15-0221 | 1/22/2015 | 4/22/2015 | CBI | (G) Ingredient in industrial adhesive | (G) Isocyanate prepolymer.
P-15-0222 | 1/22/2015 | 4/22/2015 | CBI | (S) Pigment for automotive coatings to be used in automotive OEM and refinish | (G) Substituted alkylsilanes, reaction products with a mixture of metal oxides.
P-15-0223 | 1/22/2015 | 4/22/2015 | CBI | (S) Pigment for automotive coatings to be used in automotive OEM and refinish | (G) Substituted alkylsilanes, reaction products with mica, metal oxide, zirconium oxide.
P-15-0224 | 1/22/2015 | 4/22/2015 | CBI | (S) Pigment for automotive coatings to be used in automotive OEM and refinish | (G) Substituted alkylsilanes, reaction products with a mixture of metal oxides.
P-15-0225 | 1/22/2015 | 4/22/2015 | CBI | (S) Pigment for automotive coatings to be used in automotive OEM and refinish | (G) Substituted alkylsilanes, reaction products with a mixture of metal oxides.
P-15-0226 | 1/22/2015 | 4/22/2015 | CBI | (S) Pigment for automotive coatings to be used in automotive OEM and refinish | (G) Substituted alkylsilanes, reaction products with a mixture of metal oxides.
P-15-0227 | 1/22/2015 | 4/22/2015 | CBI | (S) Pigment for automotive coatings to be used in automotive OEM and refinish | (G) Substituted alkylsilanes, reaction products with a mixture of metal oxides.
P-15-0228 | 1/22/2015 | 4/22/2015 | CBI | (S) Pigment for automotive coatings to be used in automotive OEM and refinish | (G) Substituted alkylsilanes, reaction products with a mixture of metal oxides.
P-15-0229 | 1/21/2015 | 4/21/2015 | CBI | (S) Pigment for automotive coatings to be used in automotive OEM and refinish | (G) Substituted alkylsilane, reaction products with a mixture of metal oxides.
P-15-0230 | 1/22/2015 | 4/22/2015 | CBI | (S) Pigment for automotive coatings to be used in automotive OEM and refinish | (G) Substituted alkylsilanes, reaction products with a mixture of metal oxides.
P-15-0231 | 1/22/2015 | 4/22/2015 | CBI | (S) Pigment for automotive coatings to be used in automotive OEM and refinish | (G) Substituted alkylsilanes, reaction products with a mixture of metal oxides.
P-15-0232 | 1/22/2015 | 4/22/2015 | CBI | (S) Pigment for automotive coatings to be used in automotive OEM and refinish | (G) Substituted alkylsilanes, reaction products with a mixture of metal oxides.
P-15-0233 | 1/22/2015 | 4/22/2015 | CBI | (S) Pigment for automotive coatings to be used in automotive OEM and refinish | (G) Substituted alkylsilanes, reaction products with a mixture of metal oxides.
P-15-0234 | 1/22/2015 | 4/22/2015 | CBI | (S) Pigment for automotive coatings to be used in automotive OEM and refinish | (G) Substituted alkylsilanes, reaction products with a mixture of metal oxides.
P-15-0235 | 1/22/2015 | 4/22/2015 | CBI | (S) Pigment for automotive coatings to be used in automotive OEM and refinish | (G) Substituted alkylsilane, reaction products with a mixture of metal oxides.
P-15-0236 | 1/22/2015 | 4/22/2015 | CBI | (S) Pigment for automotive coatings to be used in automotive OEM and refinish | (G) Substituted alkylsilanes, reaction products with a mixture of metal oxides.
P-15-0237 | 1/23/2015 | 4/23/2015 | CBI | (S) Pigment for automotive coatings to be used in automotive OEM and refinish | (G) Substituted alkylsilanes, reaction products with a mixture of metal oxides.
P-15-0238 | 1/23/2015 | 4/23/2015 | CBI | (S) Pigment for automotive coatings to be used in automotive OEM and refinish | (G) Substituted alkylsilanes, reaction products with a mixture of metal oxides.
P-15-0239 | 1/23/2015 | 4/23/2015 | CBI | (S) Pigment for automotive coatings to be used in automotive OEM and refinish | (G) Substituted alkylsilane, reaction products with a mixture of metal oxides.
P-15-0241 | 1/26/2015 | 4/26/2015 | Sika Corporation | (G) Adhesive component | (G) Polyurethane.
P-15-0242 | 1/27/2015 | 4/27/2015 | CBI | (G) Coating Resin | (G) Heteropolycyclic, polymer with alkanedioic acid, di-alkenoate.
P-15-0246 | 1/29/2015 | 4/29/2015 | DIC International (USA) LLC | (G) Surfactant for uv curable materials | (G) Fluorinated acrylate polymer.
L-15-0184 | 1/29/2015 | 4/29/2015 | CBI | (G) Photolithography | (G) Methacrylic resin.
P-15-0247 | 1/29/2015 | 4/29/2015 | H.B. Fuller Company | (G) Industrial Adhesive | (S) Pending Letter of Support.
P-15-0250 | 1/30/2015 | 4/30/2015 | CBI | (G) Surfactant | (G) Oxirane, alkyl-, polymer with oxirane, alkyl carboxyalkyll ethers, alkali metal salts.
P-15-0251 | 1/30/2015 | 4/30/2015 | BIMAX Inc. | (S) Photoinitiator for an adhesive | (S) Methanone, phenyl [4-2-propen-1-yloxy)phenyl]-.
P-15-0252 | 1/30/2015 | 4/30/2015 | CBI | (G) Destructive use | (G) Titanium salt, reaction products with silica.
P-15-0253 | 1/30/2015 | 4/30/2015 | CBI | (G) Destructive use | (G) Organometallic, reaction product with titanium salt, zirconium metallocene, and silica.
P-15-0254 | 1/30/2015 | 4/30/2015 | CBI | (G) Coating material for electronics | (G) Amic acid.
P-15-0255 | 1/30/2015 | 4/30/2015 | CBI | (G) Coating material for electronics | (G) Polyamic acid.
P-15-0256 | 1/30/2015 | 4/30/2015 | CBI | (G) Coating material for electronics | (G) Polyamic acid.
P-15-0257 | 1/30/2015 | 4/30/2015 | CBI | (G) Coating material for electronics | (G) Polyamic acid.
P-15-0258 | 1/30/2015 | 4/30/2015 | CBI | (G) Coating material for electronics | (G) Polyamic acid.
P-15-0259 | 1/30/2015 | 4/30/2015 | CBI | (G) PyroOil used in blending & diluent applications | (G) Tire-derived PyroOil used in blending and diluent applications
P-15-0260 | 1/30/2015 | 4/30/2015 | CBI | (G) Coating material for electronics | (G) Polyamic acid.
P-15-0261 | 1/30/2015 | 4/30/2015 | CBI | (G) Coating material for electronics | (G) polyamic acid.
P-15-0262 | 1/30/2015 | 4/30/2015 | CBI | (G) Coating material for electronics | (G) Polyamic acid.
P-15-0263 | 1/31/2015 | 5/1/2015 | CBI | (G) Diesel fuel additive | (G) Ethylene vinyl acetate polymer.

In Table II. of this unit, EPA provides the following information (to the extent that such information is not claimed as CBI) on the TMEs received by EPA during this period: The EPA case number assigned to the TME, the date the TME was received by EPA, the projected end date for EPA's review of the TME, the submitting manufacturer/importer, the potential uses identified by the manufacturer/importer in the TME, and the chemical identity.

Table II-4—TMEs Received From 1/02/2015 to 1/30/2015
Case No. | Received date | Projected notice end date | Manufacter importer | Use | Chemical
T-15-0004 | 1/8/2015 | 2/22/2015 | CBI | (G) Oil production | (G) Alkylaminopropanamide, N-[dialkyl amino-propyl], salt.
T-15-0005 | 1/8/2015 | 2/22/2015 | CBI | (G) Oil production | (G) Alkylaminopropanamide, N-[dialkyl amino-propyl], salt.
T-15-0006 | 1/8/2015 | 2/22/2015 | CBI | (G) Oil production | (G) Alkylaminopropanamide, N-[dialkyl amino-propyl], salt.
T-15-0007 | 1/8/2015 | 2/22/2015 | CBI | (G) Oil production | (G) Alkylaminopropanamide, N-[dialkyl amino-propyl], salt.

In Table III. of this unit, EPA provides the following information (to the extent that such information is not claimed as CBI) on the NOCs received by EPA during this period: The EPA case number assigned to the NOC, the date the NOC was received by EPA, the projected end date for EPA's review of the NOC, and chemical identity.

Table III-9—NOCs Received From 01/02/2015 to 01/30/2015
Case No. | Received date | Commencement notice end date | Chemical
P-14-0468 | 1/5/2015 | 12/24/2014 | (S) Ethanesulfonic acid, 2-[(2-aminoethyl)amino]-, sodium salt (1:1), polymer with 1,6-diisocyanatohexane, 1,6-hexanediol, 1,3-isobenzofurandione and 5-isocyanato-1-(isocyanatomethyl)-1,3,3-trimethylcyclohexane*.
P-14-0004 | 1/7/2015 | 12/10/2014 | (S) Phenol, 4,4′-(1-methylethylidene)bis-, polymer with 2,2′-[(1-methylethylidene)bis(4,1-phenyleneoxymethylene)], reaction products with N1,N1-diethyl-1,3-propanediamine*.
P-14-0003 | 1/7/2015 | 12/20/2014 | (G) Cashew nutshell liquid, epoxidized, polymer with formaldehyde-phenol polymer glycidyl ether.
P-14-0733 | 1/13/2015 | 12/18/2014 | (G) Acrylic modified polyurethane resin.
P-13-0874 | 1/16/2015 | 12/20/2014 | (G) Substituted phenol.
P-13-0875 | 1/16/2015 | 12/20/2014 | (G) Substituted phenol.
P-13-0876 | 1/16/2015 | 12/20/2014 | (G) Substituted phenol.
P-13-0877 | 1/16/2015 | 12/20/2014 | (G) Substituted phenol.
P-14-0861 | 1/21/2015 | 12/29/2014 | (G) Alkyl alkenoic acid, alkyl ester, telomer with alkyl alkenoate, trialkoxysilyl substituted alkane and trilalkoxysilyl alkyl alkyl alkenoate, bis substituted diazenyl-initiated.

If you are interested in information that is not included in these tables, you may contact EPA as described in Unit III. to access additional non-CBI information that may be available.

Authority: 15 U.S.C. 2601 et seq.

Dated: March 12, 2015.
Darryl S. Ballard,
Acting Director, Information Management Division, Office of Pollution Prevention and Toxics.

[FR Doc. 2015-06223 Filed 3-18-15; 4:45 am]

BILLING CODE 6560-50-P